DEPARTMENT OF DEFENSE

Office of the Secretary

[Docket ID: DOD-2012-OS-0071]

Privacy Act of 1974; System of Records

AGENCY: Office of the Secretary, DoD.

ACTION: Notice to alter a system of records.

SUMMARY: The Office of the Secretary of Defense proposes to alter a system of records in its inventory of record systems subject to the Privacy Act of 1974 (5 U.S.C. 552a), as amended.

DATES: This proposed action would be effective on July 20, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT. The proposed system report, as required by U.S.C. 552a(r) of the Privacy Act of 1974, as amended, was submitted on June 11 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: June 15, 2012.
Aaron Siegel,
Alternate OSD Federal Register Liaison Officer, Department of Defense.

DHRA 06 DoD

System name:

Defense Sexual Assault Incident Database (December 15, 2009, 74 FR 66298).

Changes:

* * * * *

System location:

Delete entry and replace with “Primary location: Washington Headquarters Services, Enterprise Information Technology Support Directorate, WHS-Supported Organizations Division, 2521 South Clark Street, Suite 640, Arlington, VA 22209-2328.

Secondary locations:

The Department of the Army, Sexual Assault Data Management System, Army G-1, DAPE-HR-HF, Room 300 Army Pentagon, Washington, DC 20310-0300.

The Department of the Navy, Consolidated Law Enforcement Operations Center, Naval Criminal Investigative Service, 716 Sicard Street SE., Washington Navy Yard, DC 20388-5380.

The Department of the Air Force, Investigative Information Management System, Headquarters United States Air Force, Air Force Office of Special Investigations, Russell Knox Building, 27130 Telegraph Road, Quantico, VA 22134-2253.

Decentralized locations include the Services staff and field operating agencies, major commands, installations, and activities. Official mailing addresses are published as an appendix to each Services compilation of systems of records notices.”

Categories of individuals covered by the system:

Delete entry and replace with “Active duty Army, Navy, Marine Corps and Air Force members; active duty Reserve members; and National Guard members covered by title 10 or title 32 (hereafter “service members”); service members who were victims of a sexual assault prior to enlistment or commissioning; military dependents age 18 and older; DoD Civilians; DoD Contractors; other government civilians; U.S. Civilians; and foreign military members who may be lawfully admitted into the United States or foreign military members who are not covered under the Privacy Act who may be victims and/or alleged perpetrators in a sexual assault involving a member of the Armed Forces.”

Categories of records in the system:

Delete entry and replace with “Victim information includes last, first, and middle name, victim case number (i.e., system generated unique control number), identification type (i.e., DoD ID number, Social Security Number (SSN), passport, U.S. Permanent Residence Card, or foreign identification), identification number for identification provided, birth date, age at the time of incident, gender, race, ethnicity, and victim type (i.e., military, DoD civilian/contractor).

Alleged perpetrator information includes last, first, and middle name, identification type (i.e., DoD ID number, Social Security Number (SSN), passport, U.S. Permanent Residence Card, or foreign identification), identification number for identification provided, birth date, age at the time of incident, gender, race, ethnicity, and alleged perpetrator category (i.e., military, DoD civilian/contractor).

However, if a victim of a sexual assault involving a member of the Armed Forces makes a Restricted Report of sexual assault, no personal identifying information for the victim and/or alleged perpetrator is collected.”

Authority for maintenance of the system:

Delete entry and replace with “10 U.S.C. 113 note, Department of Defense Policy and Procedures on Prevention and Response to Sexual Assaults Involving Members of the Armed Forces; 10 U.S.C. 136, Under Secretary of Defense for Personnel and Readiness; 32 U.S.C., National Guard; DoD Directive 6495.01, Sexual Assault Prevention and Response (SAPR) Program; DoD Instruction 6495.02, Sexual Assault Prevention and Response (SAPR) Program Procedures; 10 U.S.C. 3013, Secretary of the Army; Army Regulation 600-20, Chapter 8, Army Command Policy (Sexual Assault Prevention and Response (SAPR) Program); 10 U.S.C. 5013, Secretary of the Navy; Secretary of the Navy Instruction 1752.4A, Sexual Assault Prevention and Response; Marine Corps Order 1752.5A, Sexual Assault Prevention and Response (SAPR) Program; 10 U.S.C. 8013, Secretary of the Air Force; Air Force Instruction 36-6001, Sexual Assault Prevention and Response (SAPR) Program; and E.O. 9397 (SSN), as amended.”

* * * * *

Routine uses of records maintained in the system, including categories of users and the purposes of such uses:

Delete entry and replace with “In addition to those disclosures generally permitted under 5 U.S.C. 552a(b) of the Privacy Act of 1974, these records may specifically be disclosed outside the DoD as a routine use pursuant to 5 U.S.C. 552a(b)(3) as follows:

Any release of information contained in this system of records outside the DoD will be compatible with the purpose(s) for which the information is collected and maintained. The DoD `Blanket Routine Uses' set forth at the beginning of Office of the Secretary of Defense (OSD) systems of records notices apply to this system.”

* * * * *

Retrievability:

Delete entry and replace with “Victim records are retrieved by first name, last name, identification number and type of identification provided, and Defense Sexual Assault Incident Database control number assigned to the incident.

Alleged perpetrator records are retrieved by first name, last name, and identification number and type of identification provided.”

Safeguards:

Delete entry and replace with “Records are maintained in a controlled facility. Physical entry is restricted by the use of alarms, cipher and locks and armed guards. Access to case files in the system is role-based and requires the use of a Common Access Card and password. Further, at the DoD-level, only de-identified data can be accessed.

These are For Official Use Only records and are maintained in controlled facilities that employ physical restrictions and safeguards such as security guards, identification badges, key cards, and locks.”

Retention and disposal:

Delete entry and replace with “Records are cut off two years after inactivity and destroyed sixty years after cut off.”

* * * * *

Notification Procedure:

Delete entry and replace with “Individuals seeking to determine whether information about themselves is contained in this system of records should address written inquiries to the appropriate Service office listed below:

The Department of the Army, Human Resources Policy Directorate (HRPD), Sexual Harassment/Assault Response and Prevention (SHARP), 1225 South Clark Street, Arlington, VA 22202-4371.

The Department of the Navy, ATTN: Sexual Assault Prevention and Response Program Manager, 716 Sicard Street SE., Suite 1000, Washington Navy Yard, DC 20374-5140.

Headquarters United States Air Force/A1S, ATTN: Sexual Assault Prevention and Response Program Manager, 1040 Air Force Pentagon, Washington, DC 20330-1040.

The National Guard Bureau, Sexual Assault Prevention and Response Office, ATTN: Sexual Assault Prevention and Response Program Manager, 111 South George Mason Drive, AH2, Arlington, VA 22204-1373.

Requests must be signed and include the name, identification number and type of identification, and indicate whether the individual is a victim or alleged perpetrator.”

Record Access Procedures:

Delete entry and replace with “Individuals seeking access to records about themselves contained in this system of records should address written inquiries to the following as appropriate:

The Department of the Army, HRPD, Sexual Harassment/Assault Response and Prevention (SHARP), 1225 South Clark Street, Arlington, VA 22202-4371.

The Department of the Navy, ATTN: Sexual Assault Prevention and Response Program Manager, 716 Sicard Street SE., Suite 1000, Washington Navy Yard, DC 20374-5140.

Headquarters United States Air Force/A1S, ATTN: Sexual Assault Prevention and Response Program Manager, 1040 Air Force Pentagon, Washington, DC 20330-1040.

The National Guard Bureau, Sexual Assault Prevention and Response Office, ATTN: Sexual Assault Prevention and Response Program Manager, 111 South George Mason Drive, AH2, Arlington, VA 22204-1373.

Requests must be signed and include the name, identification number and type of identification, indicate whether the individual is a victim or alleged perpetrator, and the number of this system of records notice.”

* * * * *

Record Source Categories:

Delete entry and replace with “The individual, Sexual Assault Response Coordinators, Service Military Criminal Investigative Organizations, and Military Service sexual assault case management systems.”

* * * * *

[FR Doc. 2012-15042 Filed 6-19-12; 8:45 am]

BILLING CODE 5001-06-P